DEPARTMENT OF AGRICULTURE

Rural Utilities Service

7 CFR Part 1792

RIN 0572-AC01

Seismic Safety

AGENCY: Rural Utilities Service, USDA.

ACTION: Notice of confirmation of direct final rule.

SUMMARY: The Rural Utilities Service, an agency which administers the U.S. Department of Agriculture's Rural Development Utilities Programs (hereinafter “USDA Rural Development” or the “Agency,”) gives notice that no adverse comments were received regarding the direct final rule amending its regulations to update the seismic safety requirements of the Agency, and confirms the effective date of the direct final rule.

DATES: The direct final rule published in the Federal Register on October 16, 2006 (71 FR 60657), and will be effective on November 30, 2006.

FOR FURTHER INFORMATION CONTACT: Mr. Donald Heald, Structural Engineer, Transmission Branch, Electric Staff Division, USDA Rural Development, 1400 Independence Avenue, SW., STOP 1569, Washington, DC 20250-1569. Telephone: (202) 720-9102. Fax: (202) 720-7491.

SUPPLEMENTARY INFORMATION:

Background

In the mid eighties, the Federal Emergency Management Agency (FEMA) contracted the Building Seismic Safety Council (BSSC) to develop the National Earthquake Hazards Reduction Program (NEHRP) Provisions for new buildings. One of the primary goals of the program is to reduce or mitigate losses from earthquakes. The NEHRP Recommended Provisions for Seismic Regulations for New Buildings and Other Structures are recommended provisions that have been adopted in recent times by model codes and standards. The first edition of the NEHRP Provisions was dated 1985. The document is updated on a 3-year cycle. The 2000 edition of the NEHRP provisions is the fifth update of the document.

Executive Order 12699, Seismic Safety of Federal and Federally Assisted or Regulated New Building Construction, requires that all new federally owned, leased, assisted, and other regulated buildings be designed and constructed in accordance with the appropriate seismic standards. The Interagency Committee on Seismic Safety in Construction (ICSSC) has recommended the use of building codes which are substantially equivalent to the 2000 National Earthquake Hazards Reduction Program Provisions for the Development of Seismic Regulations for New Buildings (commonly called the NEHRP Provisions).

The National Institute of Standards and Technology (NTIS) had previously contracted to evaluate the equivalency of the latest edition of the NEHRP Provisions available at the time and the latest editions of national building codes and standards. The four previous comparisons involved the BOCA National Building Code (BOCA/NBC), the Standard Building Code (SBC), the Uniform Building Code (UBC), ASCE 7, Minimum Design Loads for Buildings and Other Structures (ASCE 7) and CABO One- and Two-family Dwelling Code (OTFDC), the International Building Code (IBC), and the International Residential Code (IRC).

NTIS contracted to determine whether or not the seismic and material design provisions of the International Building Code (IBC), 2003 edition; the NFPA 5000 Building Construction and Safety Code, 2003 edition; the International Residential Code for One- and Two-Family Dwellings, 2003 edition, and ASCE 7-02, Minimum Design Loads for Buildings and Other Structures, are substantially equivalent to, or exceed, the 2000 NEHRP Provisions.

For purposes of USDA Rural Development, the following documents have been found to be substantially equivalent to the 2000 NEHRP: International Building Code (IBC), 2003 edition; the NFPA 5000 Building Construction and Safety Code, 2003 edition, and ASCE 7-02, Minimum Design Loads for Buildings and Other Structures. Although these documents were found to be equivalent in intent and equivalent in design values, there were some exceptions within each document. Because of the structure of our agency requirements, it is recommended that the above documents be accepted as substantially equivalent.

Confirmation of Effective Date

This is to confirm the effective date of November 30, 2006, for the direct final rule 7 CFR 1792, Seismic Safety, published in the Federal Register on October 16, 2006.

Dated: November 28, 2006.
James M. Andrew,
Administrator, Rural Utilities Service.

[FR Doc. E6-20482 Filed 12-1-06; 8:45 am]

BILLING CODE 3410-15-P